DEPARTMENT OF STATE

[Public Notice: 10774]

Overseas Schools Advisory Council; Notice of Meeting

The Overseas Schools Advisory Council, Department of State, will hold its June Committee Meeting on Wednesday, June 19, 2019, at the Melrose Hotel, 2430 Pennsylvania Ave., Clifton Room, from 1:00 p.m. until 4:00 p.m. and again on Thursday, June 20, 2019, from 9:00 a.m. until approximately 2:00 p.m. in Conference Room 1482, Department of State, 2201 C Street NW, Washington, DC. These meetings are open to the public.

The Overseas Schools Advisory Council works closely with the U.S. business community on improving those American-sponsored schools overseas that are assisted by the Department of State and attended by dependents of U.S. government employees, and the children of employees of U.S. corporations and foundations abroad.

These meetings will deal with issues related to the work and the support provided by the Overseas Schools Advisory Council to the American-sponsored overseas schools. There will be a report and discussion about the status of the Council-sponsored projects: Child Protection Project and Special Needs Project. Moreover, the Regional Education Officers in the Office of Overseas Schools will make presentations on the activities and initiatives in the American-sponsored overseas schools.

Members of the public may attend the meetings and join in the discussion, subject to the instructions of the Chair. Admittance of public members will be limited to the seating available. Access to the Department of State is controlled, and individual building passes are required for all attendees. Persons who plan to attend should advise the office of Mr. Thomas Shearer, Department of State, Office of Overseas Schools, telephone 202-261-8200, prior to June 12, 2019. Each visitor to the Department of State meeting will be asked to provide his/her date of birth and either driver's license or passport number at the time of registration and attendance, and must carry a valid photo ID to the meeting.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://www.state.gov/documents/organization/242611.pdf for additional information.

Any requests for reasonable accommodation should be made at the time of registration. All such requests will be considered, however, requests made after June 12 might not be possible to fill. All attendees must use the 21st Street entrance to the building for Thursday's meeting.

Thomas P Shearer,
Executive Secretary, Overseas Schools Advisory Council, Department of State.

[FR Doc. 2019-10995 Filed 5-24-19; 8:45 am]

BILLING CODE 4710-24-P